POSTAL SERVICE

39 CFR Part 111

Postage Meters and Meter Stamps

AGENCY: Postal Service.

ACTION: Proposed rule.

SUMMARY: The Postal Service proposes to change Domestic Mail Manual P030 to extend the use of postage meters to include postage-evidencing systems that print information-based indicia.

DATES: Comments must be received on or before May 31, 2001.

ADDRESSES: Written comments should be mailed or delivered to the Manager, Postage Technology Management, 1735 N. Lynn Street, Room 5011, Arlington, VA 22209-6050. Copies of all written comments will be available at this address for inspection and photocopying between 9 a.m. and 4 p.m., Monday through Friday.

FOR FURTHER INFORMATION CONTACT: James Luff, 703-292-3693.

SUPPLEMENTARY INFORMATION: Mailers may now use information-based indicia (IBI) to show evidence of postage, as they would letterpress and digital meter stamps. IBI include human-readable information and a USPS-approved two-dimensional barcode with a digital signature and other required data fields. Existing regulations on classes of mail that apply to metered mail now apply to mail bearing IBI. In particular, mailers can use IBI and receive qualifying discounts for presorted mail.

List of Subjects in 39 CFR Part 111

Administrative practice and procedure, Postal Service.

Although exempt from the notice and comment requirements of the Administrative Procedure Act (5 U.S.C. 553(b), (c)) regarding proposed rulemaking by 39 U.S.C. 410(a), the Postal Service invites public comments on the following proposed amendments to the Domestic Mail Manual, incorporated by reference in the Code of Federal Regulations. See 39 CFR part 111.

PART 111—[AMENDED]

1. The authority citation for 39 CFR part 111 continues to read as follows:

Authority: 5 U.S.C. 552(a); 39 U.S.C. 101, 401, 403, 404, 3001-3011, 3201-3219, 3403-3406, 3621, 3626, 5001.

2. Revise the following section of the Domestic Mail Manual as set forth below:

P Postage and Payment Methods

P000 Basic Information

P030 Postage Meters and Meter Stamps

1.0 Basic Information

* * * * *

1.4 Classes of Mail

Postage may be paid by printing postage meter stamps (including letterpress, digital meter stamps, and information-based indicia) on any class of mail except Periodicals. Information-based indicia (IBI) include human-readable information and a USPS-approved two-dimensional barcode with a digital signature and other required data fields. Metered mail (including mail bearing IBI) is entitled to all privileges and subject to all conditions applying to the various classes of mail.

Appropriate amendments to 39 CFR part 111 to reflect these changes will be published if the proposal is adopted.

Stanley F. Mires,
Chief Counsel, Legislative.

[FR Doc. 01-10862 Filed 4-30-01; 8:45 am]

BILLING CODE 7710-12-P